NATIONAL CREDIT UNION ADMINISTRATION

Proposed Collection; Request for Comments

AGENCY: National Credit Union Administration (NCUA).

ACTION: Notice of submission to the Office of Management and Budget.

SUMMARY: As required by the Paperwork Reduction Act, the National Credit Union Administration (NCUA) is submitting the new, proposed information collection to the Office of Management and Budget (OMB): NCUA Speaker and Chairman Request Forms. This new information collection allows NCUA to coordinate and collaborate with credit unions, other federal agencies, and consumers to provide a safe and sound credit union system. As part of its collaboration efforts, the NCUA receives requests annually for NCUA leadership and staff to participate in speaking engagements at various events. This digital collection of information is necessary to ensure an efficient and timely process to schedule outreach and engagement with NCUA stakeholders.

DATES: Written comments should be received on or before February 28, 2024 to be assured consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submission may be obtained by contacting Rena Y. Kim at (703) 548-2398, emailing PRAComments@ncua.gov, or viewing the entire information collection request at www.reginfo.gov.

SUPPLEMENTARY INFORMATION:

OMB Number: 3133-NEW.

Title: NCUA Speaker and Chairman Request Forms.

Type of Review: New collection.

Abstract: The Federal Credit Union (FCU) Act of 1970 (12 U.S.C. 1752) established the National Credit Union Administration (NCUA) as an independent agency, in control of regulating and supervising federal credit unions. This mission requires coordination and collaboration with credit unions, other federal agencies, and consumers to provide a safe and sound credit union system. As part of its collaboration efforts, the NCUA receives requests annually for NCUA leadership and staff to participate in speaking engagements at various events. This digital collection of information is necessary to ensure an efficient and timely process to schedule outreach and engagement with NCUA stakeholders. As a result of the requests received for speaking engagements, the NCUA has developed two forms, (1) the Speaker Request Form and, (2) the Chairman Request Form; and is requesting approval from the Office of Management and Budget (OMB) for a new information collection. The forms collect information regarding the requested speaking engagement to include, the host organization, the speaking topic, agenda, and additional event details. The information is used to determine if accepting the request will further NCUA's mission.

NCUA published a 60-day notice on August 28, 2023 requesting comments under 88 FR 58621 and one comment was received. The commenter made four requests.

(1) To streamline request forms including NCUA reevaluating the forms to ensure all fields are relevant. The NCUA reevaluated the request forms, and we think that NCUA is collecting necessary information. Because NCUA Board members and Senior Leaders have limited time to speak to external entities, NCUA needs comprehensive information on each request in order to evaluate and prioritize the events at which each NCUA official will speak.

(2) The commenter asked that NCUA detail both in a written communication to credit unions and on its website exactly what is required to request a meeting with agency staff. NCUA considered this request. We believe that our website is fairly clear on what is required to request an NCUA Board and/or Senior Leader to speak. When “NCUA speaker requests” was Googled, our forms appeared in the search result. As the commenter notes, the Chairman Speaker Request Form includes helpful information at the top of the form regarding meeting requests, specifically indicating which fields are required to be completed by a requester. We also understand that trade unions have spread the word about using NCUA's forms.

(3) Provide status updates: The commenter indicated that it “would be very helpful if the generic response regarding receipt of a request included contact information for a dedicated staff member who is responsible for shepherding such requests through the approval process. Additionally, periodic updates regarding the status of a request would be beneficial, particularly since many credit unions and credit union associations often plan in-person trips to DC that coincide with such meetings.” The NCUA agrees and will provide a point of contact from an appropriate NCUA office based on the type of request.

(4) To share aggregate information: The commenter indicated that it would be helpful to have general (aggregate) information regarding the number of meeting requests and meetings granted, including whether at the Board or staff level—and possibly even the department or division in which the staff member works as an addition to the NCUA's Annual Report. To the extent possible, NCUA attempts to honor as many speaking requests as the NCUA Chairman, the Board Members and other Senior leaders are able to accommodate based upon each of their demanding schedules.

Estimated No. of Respondents: 175.

Estimated No. of Responses per Respondent: 1.

Estimated Total Annual Responses: 175.

Estimated Burden Hours per Response: 0.25.

Estimated Total Annual Burden Hours: 43.75.

Request for Comments: Comments submitted in response to this notice will be summarized and included in the request for Office of Management and Budget approval. All comments will become a matter of public record. The public is invited to submit comments concerning: (a) whether the collection of information is necessary for the proper execution of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By the National Credit Union Administration Board.
Melane Conyers-Ausbrooks,
Secretary of the Board.

[FR Doc. 2024-01659 Filed 1-26-24; 8:45 am]

BILLING CODE 7535-01-P